DEPARTMENT OF JUSTICE

Notice of Lodging of Proposed Consent Decree Under the Comprehensive Environmental Response, Compensation and Liability Act

On November 23, 2015, the Department of Justice lodged a proposed partial consent decree with the United States District Court for the District of Arizona in El Paso Natural Gas Company, LLC v. United States of America, et al., Civil Action No. 3:14-cv-08165-DGC.

The proposed consent decree would resolve the claims of the United States included in this action for the past response costs incurred by the United States Environmental Protection Agency (“EPA”) in addressing the release or threatened release of hazardous substances at and from 19 historical uranium mines located on the Navajo Nation Reservation in and around Cameron, Arizona (“the Mine Sites”). The Mine Sites are a subset of a larger number of abandoned uranium mines on Navajo lands. The United States included a claim for recovery of its response costs at the Mine Sites under section 107 of the Comprehensive Environmental Response, Compensation and Liability Act (CERCLA) in a counterclaim it brought against El Paso Natural Gas Company, LLC (“EPNG”) in this action after EPNG sued the United States under sections 107 and 113 of CERCLA to recover EPNG's response costs at the Mine Sites. Under the consent decree, EPNG will pay the United States $502,500, plus interest, to be deposited in an EPA special account for cleanup of the Mine Sites. In return, the United States agrees not to sue EPNG under section 107 of CERCLA for EPA's past response costs incurred in connection with the Mine Sites. The consent decree is a partial settlement in that it would not resolve, and would be without prejudice to, the claims EPNG asserted against the United States in this action, or the portion of the United States' counterclaim asserting that EPNG is liable to the United States in contribution under section 113 of CERCLA. Nor does the consent decree address response costs incurred and to be incurred in cleaning up hazardous substances at or from other abandoned uranium mines located on the Navajo Nation that are not involved in this action.

The publication of this notice opens a period for public comment on the consent decree. Comments should be addressed to the Assistant Attorney General, Environment and Natural Resources Division, and should refer to El Paso Natural Gas Company, LLC v. United States of America, et al., D.J. Ref. No. 90-11-3-11170. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $7.75 (25 cents per page reproduction cost) payable to the United States Treasury.

Henry S. Friedman,
Assistant Section Chief, Environmental Enforcement Section, Environment and Natural Resources Division.

[FR Doc. 2015-30229 Filed 11-27-15; 8:45 am]

BILLING CODE 4410-15-P